DEPARTMENT OF DEFENSE

Defense Logistics Agency

Privacy Act of 1974; Systems of Records

AGENCY: Defense Logistics Agency, DOD.

ACTION: Notice to alter systems of records.

SUMMARY: The Defense Logistics Agency proposes to alter a system of records notice in its inventory of record systems subject to the Privacy Act of 1974 (5 U.S.C. 552a), as amended. The alteration adds a new category of records being maintained and a new purpose for those records.

DATES: This action will be effective without further notice on January 27, 2003, unless comments are received that would result in a contrary determination.

ADDRESSES: Send comments to the Privacy Act Officer, Headquarters, Defense Logistics Agency, ATTN: DSS-C, 8725 John J. Kingman Road, Suite 2533, Fort Belvior, VA 22060-6221.

FOR FURTHER INFORMATION CONTACT: Ms. Susan Salus at (703) 767-6183.

SUPPLEMENTARY INFORMATION: The Defense Logistics Agency notices for systems of records subject to the Privacy Act of 1974 (5 U.S.C. 552a), as amended, have been published in the Federal Register and are available from the address above.

The proposed system report, as required by 5 U.S.C. 552a(r) of the Privacy Act of 1974, as amended, was submitted on November 21, 2002, to the House Committee on Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: December 16 , 2002.
Patricia L. Toppings,
Alternate OSD Federal Register Liaison Officer, , Department of Defense.

S900.10 CA

System Name:

Personnel Roster/Locator Files (October 13, 2000, 65 FR 60921).

Changes:

System Identifier:

Delete “CA” from entry.

* * * * *

Categories of Individuals in the System:

Add a new paragraph to entry “The Master Database contains current civilian employees and military personnel.”

* * * * *

Categories of Records in the System:

Add a new paragraph “The Master Database contains name, work and home telephone, facsimile, cell, and pager numbers; work and home electronic mail addresses; job title or role; employment status, type, and grade or rank; unit or office of assignment; clearance and data access restrictions; Public Key Infrastructure data; computer hardware and software associations; and voiceprint (for identity verification purposes).”

* * * * *

Purposes:

Add a new paragraph “The Master Database is used as an emergency notification system to simultaneously alert individuals to actual or simulated crisis situations and imminent threats.”

* * * * *

Retrievability:

Delete entry and replace with “Records are retrieved by individual's name, Social Security Number, organization, grade or rank, and information assurance role.”

* * * * *

Safeguards:

Add a new paragraph “The Master Database is encrypted at all times, including the backup media, and the system has a very fine-grained access model that limits viewing of any data to only individuals with specific roles that support a “need-to-know.”

* * * * *

Record Sources:

Delete entry and replace with “Record subjects, supervisors, and existing database, computer access, or information security documentation.”

* * * * *

S900.10

System Name:

Personnel Roster/Locator Files.

System Location:

Master Database is located at Headquarters, Defense Logistics Agency, Information Assurance Division, ATTN: J-633, 8725 John J. Kingman Road, Suite 2533, Fort Belvoir, VA 22060-6221.

Decentralized segments exist at Headquarters, Defense Logistics Agency, 8725 John J. Kingman Road, Suite 2533, Fort Belvoir, VA 22060-6221, and the DLA Primary Level Field Activities (PLFAs). Official mailing addresses are published as an appendix to DLA's compilation of systems of records notices.

Categories of Individuals Covered by the System:

The Master Database contains current civilian employees and military personnel.

The decentralized segments contain current civilian employees, military personnel, and a select number of former employees of the DLA activity where records are maintained.

Categories of Records in the System:

The Master Database contains name, work and home telephone, facsimile, cell, and pager numbers; work and home electronic mail addresses; job title or role; employment status, type, and grade or rank; unit or office of assignment; clearance and data access restrictions; Public Key Infrastructure data; computer hardware and software associations; and voiceprint (for identity verification purposes).

The decentralized segments contain name, Social Security Number, organizational assignment, home address and telephone number, grade/rank, position title and job series, day and month of birth, and spouse or next-of-kin name, address, and telephone numbers.

Security offices and police force records may also contain emergency medical and disability data, including information on special equipment or devices the individual requires, name and telephone number of medical practitioner, and medical alert data.

Authority for Maintenance of the System:

5 U.S.C. 301, Departmental Regulations; 10 U.S.C. 136, Under Secretary of Defense for Personnel and Readiness; 10 U.S.C. chapter 31 (Personnel); and E.O. 9397 (SSN).

Purpose(s):

The Master Database is used as an emergency notification system to simultaneously alert individuals to actual or simulated crisis situations and imminent threats.

The decentralized segments are used to notify DLA personnel of the arrival of visitors, to plan social and honorary recognition functions, to recall personnel to duty station when required, for use in emergency notification, and to perform relevant functions/requirements/actions consistent with managerial functions.

Medical and disability data is used by security and police officers to identify and locate individuals during medical emergencies, facility evacuations, and similar threat situations.

Routine uses of records maintained in the system, including categories of users and the purposes of such uses: In addition to the disclosures generally permitted under 5 U.S.C. 552a(b) of the Privacy Act, these records or information contained therein may specifically be disclosed outside the DoD as a routine use pursuant to 5 U.S.C. 552a(b)(3) as follows:

Security and police officers may relay medical and disability data to emergency medical treatment personnel, local fire fighters, and similar groups responding to calls for emergency assistance.

The DoD “Blanket Routine Uses” set forth at the beginning of DLA's compilation of systems of records notices apply to this system.

Policies and Practices for Storing, Retrieving, Accessing, Retaining, and Disposing of Records in the System:

Storage:

Records are maintained in paper and electronic form.

Retrievability:

Records are retrieved by individual's name, Social Security Number, organization, grade or rank, and information assurance role.

Safeguards:

Records are maintained in areas accessible only to DLA personnel who must use the records to perform their duties. The computer files are password protected with access restricted to authorized users. Records are secured in locked or guarded buildings, locked offices, or locked cabinets during non-duty hours.

The Master Database is encrypted at all times, including the backup media, and the system has a very fine-grained access model that limits viewing of any data to only individuals with specific roles that support a need-to-know.

Retention and Disposal:

Records are destroyed upon termination/departure of DLA personnel or when no longer needed for notification of official or social Agency functions.

System Manager(s) and Address:

Master Database: Chief, Information Assurance Division, Headquarters Defense Logistics Agency, ATTN: J-633, 8725 John J. Kingman Road, Suite 2533, Fort Belvoir, VA 22060-6221.

Decentralized Segments: Heads of Headquarters Defense Logistics Agency (DLA) principal staff elements and Heads of DLA Primary Level Field Activities, which maintain locator/roster files. Official mailing addresses are published as an appendix to DLA's compilation of systems of records notices.

Notification Procedure:

Individuals seeking to determine whether this system of records contains information about themselves should address written inquiries to the Privacy Act Officer, Defense Logistics Agency, ATTN: DSS-CF, 8725 John J. Kingman Road, Suite 2533, Fort Belvoir, VA 22060-6221, or the Privacy Act Officer of the particular DLA PLFA involved. Official mailing addresses are published as an appendix to DLA's compilation of systems of records notices.

Record Access Procedures:

Individuals seeking access to information about themselves contained in this system of records should address written inquiries to the Privacy Act Officer, Defense Logistics Agency, ATTN: DSS-CF, 8725 John J. Kingman Road, Suite 2533, Fort Belvoir, VA 22060-6221, or the Privacy Act Officer of the particular DLA PLFA involved. Official mailing addresses are published as an appendix to DLA's compilation of systems of records notices.

Contesting Record Procedures:

The DLA rules for accessing records, for contesting contents and appealing initial agency determinations are contained in DLA Regulation 5400.21, 32 CFR part 323, or may be obtained from the Privacy Act Officer, Headquarters, Defense Logistics Agency, ATTN: DSS-CF, 8725 John J. Kingman Road, Suite 2533, Fort Belvoir, VA 22060-6221.

Record Source Categories:

Record subjects, supervisors, and existing database, computer access, or information security documentation.

Exemptions Claimed for the System:

None.

[FR Doc. 02-32448 Filed 12-24-02; 8:45 am]

BILLING CODE 5001-08-P